DEPARTMENT OF THE TREASURY

Office of Foreign Assets Control

Notice of OFAC Sanctions Actions

AGENCY: Office of Foreign Assets Control, Department of the Treasury.

ACTION: Notice.

SUMMARY: The U.S. Department of the Treasury's Office of Foreign Assets Control (OFAC) is publishing the names of persons that have been placed on OFAC's Specially Designated Nationals and Blocked Persons List based on OFAC's determination that one or more applicable legal criteria were satisfied. All property and interests in property subject to U.S. jurisdiction of these persons are blocked, and U.S. persons are generally prohibited from engaging in transactions with them.

DATES: See SUPPLEMENTARY INFORMATION section for applicable date.

FOR FURTHER INFORMATION CONTACT: OFAC: Associate Director for Global Targeting, tel.: 202-622-2420; Assistant Director for Licensing, tel.: 202-622-2480; Assistant Director for Regulatory Affairs, tel.: 202-622-4855; Assistant Director for Sanctions Compliance & Evaluation, tel.: 202-622-2490; or the Department of the Treasury's Office of the General Counsel: Office of the Chief Counsel (Foreign Assets Control), tel.: 202-622-2410.

SUPPLEMENTARY INFORMATION:

Electronic Availability

The list of Specially Designated Nationals and Blocked Persons (SDN List) and additional information concerning OFAC sanctions programs are available on OFAC's website (http://www.treasury.gov/ofac).

Notice of OFAC Actions

On January 5, 2018, OFAC determined that the property and interests in property subject to U.S. jurisdiction of the following persons are blocked under the relevant sanctions authority listed below.

1. IZQUIERDO TORRES, Gerardo Jose (Latin: IZQUIERDO TORRES, Gerardo José), Caracas, Capital District, Venezuela; DOB 29 Mar 1961; citizen Venezuela; Gender Male; Cedula No. 6030540 (Venezuela); State Minister for the New Border of Peace (individual) [VENEZUELA]. Designated pursuant to section 1(a)(ii)(C) of E.O. 13692 for being a current or former official of the Government of Venezuela.

2. MARCO TORRES, Rodolfo Clemente, Aragua, Venezuela; DOB 10 Sep 1966; citizen Venezuela; Gender Male; Cedula No. 8812571 (Venezuela); Passport D0222624 (Venezuela); Governor of Aragua State (individual) [VENEZUELA]. Designated pursuant to section 1(a)(ii)(C) of E.O. 13692 for being a current or former official of the Government of Venezuela.

3. RANGEL GOMEZ, Francisco Jose (Latin: RANGEL GOMEZ, Francisco José), Bolivar, Venezuela; DOB 04 Apr 1953; POB Caracas, Venezuela; citizen Venezuela; Gender Male; Cedula No. 2520281 (Venezuela); Former Governor of Bolivar State (individual) [VENEZUELA]. Designated pursuant to section 1(a)(ii)(C) of E.O. 13692 for being a current or former official of the Government of Venezuela.

4. ZAVARSE PABON, Fabio Enrique (Latin: ZAVARSE PABÓN, Fabio Enrique), Caracas, Capital District, Venezuela; DOB 04 Oct 1967; citizen Venezuela; Gender Male; Cedula No. 6967914 (Venezuela); Passport 032131710 (Venezuela); Commander of the Capital Integral Defense Operational Zone of the National Armed Forces (individual) [VENEZUELA]. Designated pursuant to section 1(a)(ii)(C) of E.O. 13692 for being a current or former official of the Government of Venezuela.

Dated: January 5, 2018.
Andrea M. Gacki,
Acting Director, Office of Foreign Assets Control.

[FR Doc. 2018-00316 Filed 1-10-18; 8:45 am]

BILLING CODE 4810-AL-P